DEPARTMENT OF THE INTERIOR

National Park Service

[NPS-AKR-GLBA-NPS0028320; PX.XGLBARP18.00.1 (200); OMB Control Number 1024-0281]

Agency Information Collection Activities; Submission to the Office of Management and Budget for Review and Approval; Glacier Bay National Park and Preserve Bear Sighting and Encounter Reports

AGENCY: National Park Service, Interior.

ACTION: Notice of information collection; request for comment.

SUMMARY: In accordance with the Paperwork Reduction Act of 1995, we, the National Park Service (NPS) are proposing to renew an information collection with revisions.

DATES: Interested persons are invited to submit comments on or before March 2, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0281 in the subject line of your comments.

FOR FURTHER INFORMATION CONTACT: To request additional information about this ICR, contact Margaret Hazen, Glacier Bay National Park and Preserve, Supervisory Park Ranger, P.O. Box 140, Gustavus, AK 99826; or by email at Margaret_Hazen@nps.gov. Please reference OMB Control Number 1024-0281 in the subject line of your comments. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

On November 21, 2019, we published a Federal Register notice soliciting comments on this collection of information for 60 days, ending on January 21, 2020 (84 FR 64337). We received one comment via email, on January 21, 2020 from the State of Alaska ANILCA Implementation Program that represented the consolidated views of state resource agencies.

ANILCA Comment

The State provided comments on this information collection request previously in a letter dated November 23, 2016. Those comments remain relevant; therefore, we adopt them by reference and reiterate our request that completion of the forms remain voluntary. It is likely that most visitors would reach out to park staff in the event of a negative bear encounter or inappropriate activities regardless and both forms contain 24-hour emergency contact information, which should be adequate to address visitor safety and compliance issues. We support the dissemination of visitor information that educates the public on bear safety and “Leave No Trace” practices and explains the benefits of reporting observations to encourage participation. Voluntary compliance combined with education outreach would allow the Service to obtain the desired information without inadvertently subjecting visitors to the threat of citation or intrusion on their personal experiences.

NPS Response

The submission of NPS Forms 10-405 and 10-406 is now described as voluntary and submitted upon or after exiting the park backcountry and will continue to collect information regarding bear sightings within GLBA. The change was made because the forms are not “required or mandatory to obtain or receive a benefit.” Park visitors are now encouraged to complete and return the forms at the end of their visit.

We are again soliciting comments on the proposed ICR that is described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Park Service Organic Act, 54 U.S.C. 100101(a) et seq., requires that the NPS preserve national parks for the enjoyment, education, and inspiration of this and future generations. In order to monitor resources and wildlife in the Glacier Bay National Park and Preserve (GLBA) and to enhance the safety of future visitors, the park monitors bear sightings and interactions with visitors. NPS regulations codified in 36 CFR 1-7, 12 and 13 implement statutory mandates that provide for resource protection and public enjoyment. The bear sighting and encounter reporting forms are an extension of our statutory authority and responsibility to protect the park areas we administer and to manage the public use thereof.

Bear sighting data provides the park with important information used to determine bear movements, habitat use, and species distribution. This information can be used in backcountry management and planning, field research planning, and educational outreach for visitors. Bear-human interaction data is vital to understanding how bears respond to people, detecting changes in bear behavior, and identifying potential areas of high bear-human conflict. Whenever possible, obtaining immediate information on bear-human conflicts allows managers to respond promptly to mitigate further conflicts. Proactive mitigation includes notifying other backcountry users, issuing advisories or recommendations, or issuing closures to prevent further conflicts and maintain public safety. Additionally, managers may respond to reports of bear-human conflict with bear management techniques such as hazing or aversive conditioning. Obtaining current accurate information on bear sightings and interactions is essential for public safety and to effectively manage bears and visitors to minimize conflicts. Summary statistics (without personal information) may be generated to examine long-term trends in types and locations of bear-human interactions. Observations and interactions can be recorded by visitors using two forms: NPS 10-405, “Tatshenshini—Alsek River Bear Report” and 10-406, “Bear Information Management Report.” The collection and timeliness of the data enhance NPS' ability to provide for the safety of future visitors and to protect the bear population at the park.

The submission of NPS Form 10-405 is voluntary upon or after exiting the park backcountry and is used to collect information regarding bear sightings within GLBA. Information collected via NPS Form 10-405 includes:

• Group name;

• Take-out date;

• Whether visitor encountered dirty campsites left by previous users or observe unsafe or inappropriate behavior by other groups; and

• Detailed information for each sighting documented on the form, to include:

○ Date/time

○ Species type

○ Total number of bears seen together (for each sighting)

○ Bear unit type

○ Estimation of distance between visitor and bear(s)

○ Whether the bear was aware of the group

○ Bear reaction to group

○ Activity of group

○ Number of observers and

○ Location description/campsite name/GPS position/other comments

Submission of a completed NPS Form 10-406 is voluntary and can be used to document when a bear enters camp, approaches the group, damages gear, obtains food, and/or acts in an aggressive or threatening manner towards the group. Information collected via NPS Form 10-406 includes:

• Name and phone number of the primary person involved in the interaction;

• Group type: Park visitor, concession employee, contractor, researcher, NPS employee, or other;

• Number of people who encountered the bear;

• Corresponding sighting number on NPS Form 10-405; Location 1-28 (Backcountry vs. Developed Area A and B);

• Types of vegetation in area of encounter;

• The bear's activity when it was first observed;

• The group's activity prior to seeing the bear;

• The bear's initial and subsequent reaction to the group;

• Group's response to bear's reaction;

• Group's distance to the bear;

• Whether food was present, and if so, if it was eaten by the bear;

• Whether property was damaged;

• Detailed description of the interaction;

• Detailed description of the bear, to include color, markings, scars, tags, etc.;

• Date, time, and duration of encounter;

• Exact location of encounter documented on map provided by GLBA, to include the latitude/longitude;

• Where did the individual learn about how to behave while in bear country; and

• Whether visitor encountered dirty campsites left by previous users or observe unsafe or inappropriate behavior by other groups.

Title of Collection: Glacier Bay National Park and Preserve Bear Sighting and Encounter Reports.

OMB Control Number: 1024-0281.

Form Number: 10-405, “Tatshenshini—Alsek River Bear Report” and 10-406, “Bear Information Management Report”.

Type of Review: Extension of a currently approved collection.

Description of Respondents: Backcountry and frontcountry visitors to Glacier Bay National Park and Preserve.

Respondent's Obligation: Voluntary.

Frequency of Collection: On occasion.

Total Estimated Annual Nonhour Burden Cost: None.

Activity | Estimated annual number of responses | Estimated completion time per response | Estimated total annual burden hours
NPS Form 10-405, “Tatshenshini—Alsek River Bear Report Form 1” | 40 | 5 mins | 3
NPS Form 10-406, “Tatshenshini—Alsek River Bear Information Management (BIM) Report Form 2” | 10 | 5 mins | 1
Totals | 50 |  | 4

An agency may not conduct or sponsor and a person is not required to respond to a collection of information unless it displays a currently valid OMB control number.

The authority for this action is the Paperwork Reduction Act of 1995 (44 U.S.C. 3501 et seq.).

Phadrea Ponds,
Acting Information Collection Clearance Officer, National Park Service.

[FR Doc. 2020-01974 Filed 1-29-20; 4:15 pm]

BILLING CODE 4312-52-P